DEPARTMENT OF COMMERCE

Foreign-Trade Zones Board

[Docket 32-2000]

Foreign-Trade Zone 112—Colorado; Springs, CO; Application for Expansion and Request for Manufacturing Authority (Data Storage Systems)

An application has been submitted to the Foreign-Trade Zones (FTZ) Board (the Board) by the Colorado Springs Foreign-Trade Zone, Inc., grantee of FTZ 112, requesting authority to reorganize and expand its existing zone space to include three new sites in Colorado Springs, Colorado, and requesting, on behalf of the Quantum Corporation and its subsidiaries (Quantum), authority to manufacture data storage drives under zone procedures within FTZ 112 (Colorado Springs Customs Service Station). The application was submitted pursuant to the provisions of the Foreign-Trade Zones Act, as amended, (19 U.S.C. 81a-81u), and the regulations of the Board (15 CFR Part 400). It was formally filed on June 27, 2000.

FTZ 112 was approved on November 1, 1984 (Board Order 281, 49 FR 44936, 11/13/84). The zone currently consists of one site (2,270 acres) within the Colorado Centre industrial and commercial community on Drennan Road, in El Paso County, adjacent to the Colorado Springs Municipal Airport.

The applicant is now requesting authority to transfer 1017.22 acres from the current site to three proposed sites. The area to be removed from the zone is located within the current Site 1, the Colorado Centre and is north of Fontaine Boulevard, east of Powers Boulevard, south of Bradley Road, and west of Meridian Road. The expansion would include the following new sites: proposed Site 2: (55.84 acres) Arrowswest Business and Industrial Park, located along the Garden of the Gods High-Tech Corridor, Colorado Springs, Colorado; proposed Site 3: (202.94 acres) InterQuest Business and Industrial Park, located at the intersection of I-25 and InterQuest Parkway; and proposed Site 4: (1023.6 acres) Colorado Springs Airport, located at the intersection of Powers Boulevard and Drennan Road. The proposed expansion would add 265.48 acres to the zone.

The application also requests authority on behalf of Quantum to manufacture data storage systems within FTZ 112 (within the proposed expansion area). Quantum currently operates in three buildings (392,688 square feet) within proposed Site 3. The Quantum facilities are used for the manufacturing of DLTtape™ drives, solid state disk drives, ATL Products (DLTtape™ libraries) and Snap! Systems (file servers) (HTS 8471, duty free). Components and materials sourced from abroad (representing about 60% of all parts consumed in manufacturing) include: vulcanized rubber, packing materials of wood, plastic and paper, springs, data processing machines and parts, gaskets, electric motors and parts, electrical transformers, bearings, primary cells and batteries, prepared unrecorded media, insulated wire, measuring instruments and electrical apparatuses for switching electrical circuits (HTS 3923, 3926, 4016, 4819, 4821, 7320, 8471, 8473, 8484, 8485, 8501, 8503, 8504, 8506, 8523, 8536, 8544, and 9031, duty rate ranges from duty-free to 10.7%).

FTZ procedures would exempt Quantum from Customs duty payments on the foreign components used in export production. Some 27 percent of the plant's shipments are exported. On its domestic sales, Quantum would be able to choose the duty rates during Customs entry procedures that apply to finished data storage drives (duty-free) for the foreign inputs noted above. The request indicates that the savings from FTZ procedures would help improve the plant's international competitiveness.

In accordance with the Board's regulations, a member of the FTZ staff has been appointed examiner to investigate the application and report to the Board.

Public comment on the application is invited from interested parties. Submissions (original and 3 copies) shall be addressed to the Board's Executive Secretary at the address below. The closing period for their receipt is September 5, 2000. Rebuttal comments in response to material submitted during the foregoing period may be submitted during the subsequent 15-day period (to September 18, 2000).

A copy of the application and the accompanying exhibits will be available for public inspection at each of the following locations:

U.S. Department of Commerce, Export Assistance Center, 1625 Broadway, Suite 680, Denver, CO 80202

Office of the Executive Secretary, Foreign-Trade Zones Board, Room 3716, U.S. Department of Commerce, 14th and Pennsylvania Avenue, NW., Washington, D.C. 20230

Dated: June 28, 2000.
Pierre V. Duy,
Acting Executive Secretary.

[FR Doc. 00-16957 Filed 7-3-00; 8:45 am]

BILLING CODE 3510-DS-P